DEPARTMENT OF AGRICULTURE

Forest Service

Sierra County Resource Advisory Committee

AGENCY: Forest Service, USDA.

ACTION: Notice of meeting.

SUMMARY: The Sierra County Resource Advisory Committee (RAC) will meet in Sierraville, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with the Title II of the Act. The meeting is open to the public. The purpose of the meeting is to discuss and vote on projects submitted for funding and the expenditure of Title II funds benefiting National Forest System lands in Sierra County.

DATES: The meeting will be held Monday, September 12, 2011 at 9 a.m.

ADDRESSES: The meeting will be held at the Sierraville Ranger Station, 317 S. Lincoln, (Highway 89) Sierraville, CA.

Written comments may be submitted as described under SUPPLEMENTARY INFORMATION. All comments, including names and addresses when provided, are placed in the record and are available for public inspection and copying. The public may inspect comments received at the Tahoe National Forest Headquarters, 631 Coyote St., Nevada City, CA. Please call ahead to 530-478-6205 to facilitate entry into the building to view comments.

FOR FURTHER INFORMATION CONTACT: Ann Westling, Committee Coordinator, Tahoe National Forest, 530-478-6205, e-mail: awestling@fs.fed.us.

Individuals who use telecommunication devices for the deaf (TDD) may call the Federal Information Relay Service (FIRS) at 1-800-877-8339 between 8 a.m. and 8 p.m., Eastern Standard Time, Monday through Friday. Please make requests in advance for sign language interpreting, assistive listening devices or other reasonable accommodation for access to the facility or proceedings by contacting the person listed for further information.

SUPPLEMENTARY INFORMATION: The following business will be conducted: (1) Welcome and Introductions; (2) Review of RAC Operating Guidelines; (3) Discussion of Proposed Projects; (4) Vote on Proposed Projects; and (5) Comments from the Public. The agenda may be viewed at https://fsplaces.fs.fed.us/fsfiles/unit/wo/secure_rural_schools.nsf . Anyone who would like to bring related matters to the attention of the committee may file written statements with the committee staff before or after the meeting. The agenda will include time for people to make oral statements of three minutes or less. Individuals wishing to make an oral statement should request in writing by September 5, 2011 to be scheduled on the agenda. Written comments and requests for time for oral comments must be sent to Ann Westling, Tahoe National Forest, 631 Coyote St, Nevada City, CA 95959 or by e-mail to awestling@fs.fed.us or via facsimile to 530-478-6109. A summary of the meeting will be posted at https://fsplaces.fs.fed.us/fsfiles/unit/wo/secure_rural_schools.nsf within 21 days of the meeting.

Dated: August 23, 2011.
Tom Quinn,
Forest Supervisor.

[FR Doc. 2011-22034 Filed 8-26-11; 8:45 am]

BILLING CODE 3410-11-P